DEPARTMENT OF TRANSPORTATION

Federal Aviation Administration

14 CFR Part 39

[Docket No. FAA-2013-0215; Directorate Identifier 2012-NM-132-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 707-300, 707-300B, and 707-300C series airplanes; and certain Model 727C, 727-100C, and 727-200F series airplanes. This proposed AD was prompted by a report that a cam latch on the main cargo door (MCD) broke during flight. This proposed AD would require performing repetitive inspections of the MCD cam latches; replacing cam latches, certain bolts, and door hinge fittings; performing related investigative and corrective actions, if necessary; and MCD rigging. We are proposing this AD to detect and correct cracked or damaged cam latches, latch pins, and latch pin cross bolts, which could reduce the structural integrity of the MCD, and result in rapid decompression of the airplane and potential loss of the MCD during flight.

DATES: We must receive comments on this proposed AD by May 13, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Kimberly A. DeVoe, Aerospace Engineer, Cabin Safety and Environmental Systems Branch, ANM-150S, FAA, 1601 Lind Avenue SW., Renton, WA 98057-3356; phone: 425-917-6495; fax: 425-917-6590; email: kimberly.devoe@faa.gov.

SUPPLEMENTARY INFORMATION:

Comments Invited

We invite you to send any written relevant data, views, or arguments about this proposal. Send your comments to an address listed under the ADDRESSES section. Include “Docket No. FAA-2013-0215; Directorate Identifier 2012-NM-132-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that the forward-most cam latch on the forward center cam latch pair (cam latch number 3) on the MCD broke during flight on a Model 757 airplane. That airplane had accumulated 20,000 total flight hours and 9,500 total flight cycles when the cam latch broke.

Certain Model 707-300, 707-300B, and 707-300C series airplanes; and certain Model 727C, 727-100C, and 727-200F series airplanes; have an MCD with a similar design to the MCD on the Model 757 airplane. Therefore, those Model 707-300, 707-300B, and 707-300C series airplanes; and Model 727C, 727-100C, and 727-200F series airplanes; might be subject to the unsafe condition revealed on Model 757 airplanes.

The MCD is an outward-hinging door that requires a locking mechanism to keep the door closed. The latch pins in the lower sill of the MCD interlock with the cam latches installed in the bottom of the MCD. When a latch pin interlocks with a cam latch, the cam latch rotates into the closed position and holds the door closed. We are proposing this AD to detect and correct cracked or damaged cam latches, latch pins, and latch pin cross bolts, which could reduce the structural integrity of the MCD, and result in rapid decompression of the airplane and potential loss of the MCD during flight.

Relevant Service Information

We reviewed Boeing 707 Alert Service Bulletin A3536, dated February 6, 2012 (for Model 707-300, 707-300B, and 707-300C series airplanes); and Boeing Alert Service Bulletin 727-52A0150, dated January 30, 2012 (for Model 727C, 727-100C, and 727-200F series airplanes). For information on the procedures and compliance times, see this service information at http://www.regulations.gov by searching for Docket No. FAA-2013-0215.

Concurrent Service Information

Boeing 707 Alert Service Bulletin A3536, dated February 6, 2012 (for Model 707-300, 707-300B, and 707-300C series airplanes), specifies concurrent or prior accomplishment of Boeing 707/720 Service Bulletin 3477, Revision 2, dated April 15, 1993 (for Model 707-300, 707-300B, and 707-300C series airplanes). Boeing Alert Service Bulletin 727-52A0150, dated January 30, 2012 (for Model 727C, 727-100C, and 727-200F series airplanes), specifies concurrent or prior accomplishment of Boeing Service Bulletin 727-52-0142, Revision 2, dated April 15, 1993 (for Model 727-100C and 727-200F series airplanes). For information on the procedures, see this service information at http://www.regulations.gov by searching for Docket No. FAA-2013-0215.

Other Relevant Rulemaking

On October 7, 1991, the FAA issued AD 91-22-04, Amendment 39-8064 (56 FR 55223, October 25, 1991), for Model 707/720, 727-100C, and 727-200F series airplanes. That AD requires the use of certain special operating procedures for the MCD, and the inspection, necessary repair, and eventual replacement of MCD cam latches, cam latch bellcranks, and pressure relief door hinge fittings in accordance with the Accomplishment Instructions of Boeing Service Bulletin 3477, dated July 26, 1990 (for Model 707/720 series airplanes); or Boeing Service Bulletin 727-52-0142, dated July 26, 1990 (for Model 727 series airplanes). For this proposed AD, those actions must be accomplished concurrently with the Accomplishment Instructions of Boeing 707/720 Service Bulletin 3477, Revision 2, dated April 15, 1993 (for Model 707-300, 707-300B, and 707-300C series airplanes); or Boeing Service Bulletin 727-52-0142, Revision 2, dated April 15, 1993 (for Model 727-100C and 727-200F series airplanes).

FAA's Determination

We are proposing this AD because we evaluated all the relevant information and determined the unsafe condition described previously is likely to exist or develop in other products of these same type designs.

Proposed AD Requirements

This proposed AD would require accomplishing the actions specified in the service information described previously under “Relevant Service Information,” except as discussed under “Differences Between the Proposed AD and the Service Information.”

The phrase “related investigative actions” might be used in this proposed AD. “Related investigative actions” are follow-on actions that (1) are related to the primary actions, and (2) are actions that further investigate the nature of any condition found. Related investigative actions in an AD could include, for example, inspections.

In addition, the phrase “corrective actions” might be used in this proposed AD. “Corrective actions” are actions that correct or address any condition found. Corrective actions in an AD could include, for example, repairs.

Differences Between the Proposed AD and the Service Information

Although Boeing 707 Alert Service Bulletin A3536, dated February 6, 2012 (for Model 707-300, 707-300B, and 707-300C series airplanes); and Boeing Alert Service Bulletin 727-52A0150, dated January 30, 2012 (for Model 727C, 727-100C, and 727-200F series airplanes); specify that operators may contact the manufacturer for disposition of certain repair conditions, this proposed AD would require operators to repair those conditions using a method approved by the FAA.

Costs of Compliance

We estimate that this proposed AD affects 18 airplanes of U.S. registry. We estimate the following costs to comply with this proposed AD:

Estimated Costs
Action | Labor cost | Parts cost | Cost per product | Cost on U.S. operators
Inspection/Torque/Measurement | 3 work-hours × $85 per hour = $255 | $0 | $255 | $4,590.
MCD Modification | 48 work-hours × $85 per hour = $4,080 | Up to $8,821 ¹ | Up to $12,901 | Up to $232,218.
¹ Special tooling is available from the airplane manufacturer; $8,821 is the purchase price and $180 per day is the rental rate.

We estimate the following costs to do any necessary replacements that would be required based on the results of the proposed inspections. We have no way of determining the number of aircraft that might need these replacements:

On-Condition Costs
Action | Labor cost | Parts cost | Cost per product
Replace Cross Bolts | 3 work-hours × $85 per hour = $255 | $0 | $255.
Replace Cam Latch/Latch Pin | 1 work-hour × $85 per hour = $85 | 0 | $85 per latch/pin.
Repetitive Inspections | 3 work-hours × $85 = $255 per inspection cycle | 0 | $255 per inspection cycle.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2013-0215; Directorate Identifier 2012-NM-132-AD.

(a) Comments Due Date

We must receive comments by May 13, 2013.

(b) Affected ADs

None.

(c) Applicability

The Boeing Company airplanes, certificated in any category, as identified in paragraphs (c)(1) and (c)(2) of this AD.

(1) Model 707-300, 707-300B, and 707-300C series airplanes, as identified in Boeing 707 Alert Service Bulletin A3536, dated February 6, 2012.

(2) Model 727C, 727-100C, and 727-200F series airplanes, as identified in Boeing Alert Service Bulletin 727-52A0150, dated January 30, 2012.

(d) Subject

Joint Aircraft System Component (JASC)/Air Transport Association (ATA) of America Code 52, Doors.

(e) Unsafe Condition

This AD was prompted by a report that a cam latch on the main cargo door (MCD) broke during flight. We are issuing this AD to detect and correct cracked or damaged cam latches, latch pins, and latch pin cross bolts, which could affect the structural integrity of the MCD, and result in rapid decompression of the airplane and potential loss of the MCD during flight.

(f) Compliance

Comply with this AD within the compliance times specified, unless already done.

(g) MCD Inspections, Bolt Torque, Latch Pin Measurement, Bolt Replacement, and Rigging

At the applicable times specified in table 1 of paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727-200F series airplanes); except as provided by paragraph (k)(1) of this AD: Do a detailed inspection of the MCD to detect damage, distress, and incorrect rigging; torque the cross bolts; measure the extension of the latch pins; replace all alloy steel bolts used as latch pin cross bolts with corrosion resistant steel bolts; rig the MCD, as applicable; and do all applicable related investigative and corrective actions, except as required by paragraph (k)(2) of this AD; in accordance with the Accomplishment Instructions of Boeing 707 Alert Service Bulletin A3536, dated February 6, 2012 (for Model 707-300, 707-300B, and 707-300C series airplanes); or Boeing Alert Service Bulletin 727-52A0150, dated January 30, 2012 (for Model 727C, 727-100C, and 727-200F series airplanes). Do all applicable related investigative and corrective actions at the applicable time specified in paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727-200F series airplanes).

(h) Repetitive Inspections

Repeat the applicable inspections specified in paragraph (g) of this AD, as identified in paragraphs (h)(1), (h)(2), and (h)(3) of this AD, at the applicable times specified in table 1 of paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727-200F series airplanes). The Inspection Conditions are defined in Boeing 707 Alert Service Bulletin A3536, dated February 6, 2012 (for Model 707-300, 707-300B, and 707-300C series airplanes); and Boeing Alert Service Bulletin 727-52A0150, dated January 30, 2012 (for Model 727C, 727-100C, and 727-200F series airplanes).

(1) For airplanes found with Inspection Condition 2 or 4.2: Repeat the detailed inspection of the cam latches and cam pins for damage, distress, and incorrect rigging.

(2) For airplanes found with Inspection Condition 4.1: Repeat the general visual inspection of the cam latch for broken, cracked, missing, or migrated parts.

(3) For airplanes found with Inspection Condition 5: Do the actions specified in paragraphs (h)(3)(i), (h)(3)(ii), and (h)(3)(iii) of this AD.

(i) Repeat the general visual inspection of the cam latch for broken, cracked, missing, or migrated parts.

(ii) Repeat the detailed inspection of the cam latches and cam pins for damage, distress, or incorrect rigging.

(iii) Repeat the high frequency eddy current (HFEC) or magnetic particle inspection of cam latch 1 and cam latch 2 for cracking.

(i) MCD Post-Rigging Initial Inspections and Related Investigative and Corrective Actions

At the applicable times specified in table 2 of paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727-200F series airplanes); except as provided by paragraph (k)(1) of this AD: Do a general visual inspection of the cam latches and latch pins for discrepancies; a detailed inspection of the cam latches and latch pins for discrepancies; and an HFEC or magnetic particle inspection of cam latch 1 and cam latch 2 for cracking; and do all applicable related investigative and corrective actions, except as required by paragraph (k)(2) of this AD; in accordance with the Accomplishment Instructions of Boeing 707 Alert Service Bulletin A3536, dated February 6, 2012 (for Model 707-300, 707-300B, and 707-300C series airplanes); or Boeing Alert Service Bulletin 727-52A0150, dated January 30, 2012 (for Model 727C, 727-100C, and 727-200F series airplanes). Do all applicable related investigative and corrective actions at the applicable time specified in paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727-200F series airplanes).

(j) MCD Post-Rigging Repetitive Inspections

Repeat the applicable inspections specified in paragraph (i) of this AD, as identified in paragraph (j)(1) or (j)(2) of this AD, at the applicable times specified in table 2 of paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727 -200F series airplanes). The Inspection Conditions are defined in Boeing 707 Alert Service Bulletin A3536, dated February 6, 2012 (for Model 707-300, 707-300B, and 707-300C series airplanes); and Boeing Alert Service Bulletin 727-52A0150, dated January 30, 2012 (for Model 727C, 727-100C, and 727-200F series airplanes).

(1) For airplanes that have completed the MCD rigging: Do the actions specified in paragraphs (j)(1)(i), (j)(1)(ii), and (j)(1)(iii) of this AD.

(i) Repeat the general visual inspection of the cam latches and latch pins for discrepancies.

(ii) Repeat the detailed inspection of the cam latches and latch pins for discrepancies.

(iii) Repeat the HFEC or magnetic particle inspection of cam latch 1 and cam latch 2 for cracking.

(2) For airplanes found with Inspection Condition 2: Do the actions specified in paragraphs (j)(2)(i) and (j)(2)(ii) of this AD.

(i) Repeat the detailed inspection of the cam latches and latch pins for damage, distress, or incorrect rigging.

(ii) Repeat the HFEC or magnetic particle inspection of cam latch 1 and cam latch 2 for cracking.

(k) Exceptions to Service Bulletin Specifications

The following exceptions apply to this AD.

(1) Where Boeing 707 Alert Service Bulletin A3536, dated February 6, 2012 (for Model 707-300, 707-300B, and 707-300C series airplanes); or Boeing Alert Service Bulletin 727-52A0150, dated January 30, 2012 (for Model 727C, 727-100C, and 727-200F series airplanes); specifies a compliance time relative to the issue date of that service bulletin, this AD requires compliance within the specified compliance time after the effective date of this AD.

(2) Where Boeing 707 Alert Service Bulletin A3536, dated February 6, 2012 (for Model 707-300, 707-300B, and 707-300C series airplanes); or Boeing Alert Service Bulletin 727-52A0150, dated January 30, 2012 (for Model 727C, 727-100C, and 727-200F series airplanes); specifies to contact Boeing for appropriate action: At the applicable time specified in paragraph 1.E., “Compliance,” of Boeing 707 Alert Service Bulletin A3536, dated February 6, 2012 (for Model 707-300, 707-300B, and 707-300C series airplanes); or Boeing Alert Service Bulletin 727-52A0150, dated January 30, 2012 (for Model 727C, 727-100C, and 727-200F series airplanes); repair in accordance with a method approved by the Manager, Seattle Aircraft Certification Office (ACO), FAA. For a repair method to be approved, the repair must meet the certification basis of the airplane, and the approval must specifically refer to this AD.

(l) Concurrent Actions

(1) For airplanes identified in Boeing 707 Alert Service Bulletin A3536, dated February 6, 2012: Before or concurrently with accomplishment of the detailed inspection specified in paragraph (g) of this AD, do a general visual inspection of the hinge fittings and the cam latches on the MCD, and perform related investigative and corrective actions as applicable, in accordance with the Accomplishment Instructions of Boeing 707/720 Service Bulletin 3477, Revision 2, dated April 15, 1993.

(2) For airplanes identified in Boeing Alert Service Bulletin 727-52A0150, dated January 30, 2012: Before or concurrently with accomplishment of the detailed inspection specified in paragraph (g) of this AD, do a general visual inspection of the hinge fittings and the cam latches on the MCD, and perform related investigative and corrective actions if applicable, in accordance with the Accomplishment Instructions of Boeing Service Bulletin 727-52-0142, Revision 2, dated April 15, 1993.

(m) Optional Terminating Action

Accomplishment of the latch mechanism adjustment test and the MCD rigging, in accordance with the Accomplishment Instructions of Boeing 707 Alert Service Bulletin A3536, dated February 6, 2012 (for Model 707-300, 707-300B, and 707-300C series airplanes); or Boeing Alert Service Bulletin 727-52A0150, dated January 30, 2012 (for Model 727C, 727-100C, and 727-200F series airplanes); terminates the repetitive inspections specified in paragraph (h) of this AD. Thereafter, do the MCD post-rigging initial inspections and applicable related investigative and corrective actions specified in paragraph (i) of this AD, and the repetitive inspections specified in paragraph (j) of this AD.

(n) Parts Installation Prohibition

As of the effective date of this AD, no person may install an alloy steel bolt as a cross bolt through any latch pin fitting assembly in the lower sill of the MCD on any airplane.

(o) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(p) Related Information

(1) For more information about this AD, contact Kimberly A. DeVoe, Aerospace Engineer, Cabin Safety and Environmental Systems Branch, ANM-150S, FAA, 1601 Lind Avenue SW., Renton, WA 98057-3356; phone: 425-917-6495; fax: 425-917-6590; email: kimberly.devoe@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Issued in Renton, Washington, on March 21, 2013.
Jeffrey E. Duven,
Acting Manager, Transport Airplane Directorate, Aircraft Certification Service.

[FR Doc. 2013-07213 Filed 3-27-13; 8:45 am]

BILLING CODE 4910-13-P